DEPARTMENT OF AGRICULTURE

Submission for OMB Review; Comment Request

October 5, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Certificate for Poultry and Hatching Eggs for Export.

OMB Control Number: 0579-0048.

Summary of Collection: The export of agricultural commodities, including poultry and hatching eggs is a major business in the United States and contributes to a favorable balance of trade. As part of its mission to facilitate the export of U.S. poultry and poultry products, the U.S. Department of Agriculture (USDA), Animal and Plant Health Inspection Service (APHIS), Veterinary Services, maintains information regarding the import health requirements of other countries for poultry and hatching eggs exported from the U.S. Most countries require a certification that our poultry and hatching eggs are disease free. VS Form 17-6, Certificate for Poultry & Hatching Eggs for Export, is used to meet these requirements.

Need and Use of the Information: APHIS will use VS form 17-6, to collect information on the quantity and type of poultry and hatching egg designated for export. The information is necessary to satisfy the import requirements of the receiving countries and to prevent unhealthy poultry or disease carrying hatching eggs from being exported from the United States, thereby protecting and encouraging trade with the United States and preventing the international dissemination of poultry diseases. If the certification was not provided, other countries would not accept poultry or hatching eggs from the United States.

Description of Respondents: Business or other for-profit.

Number of Respondents: 300.

Frequency of Responses: Reporting: On occasion.

Total Burden Hours: 4,800.

Animal and Plant Health Inspection Service

Title: Pseudorabies.

OMB Control Number: 0579-0070.

Summary of Collection: Title 7 U.S.C. 8301, The Animal Health Protection Act, authorizes the Animal and Plant Health Inspection Service (APHIS), on behalf of the Secretary of Agriculture, to take such measures as deemed necessary to prevent the introduction or dissemination of any contagious infections or communicable disease of animals and/or live poultry from a foreign region into the United States or from one State to another. APHIS implements regulations that control and stop the escalating spread of pseudorabies, which is a herpes virus disease that affects many species of animal, but primarily swine. Regulating the interstate movement of swine requires the use of certain information gathering activities such as permits, certificates, and owner-shipper statements to ascertain the health status of the swine.

Need and Use of the Information: The information collected is used by APHIS to monitor the health status of swine being moved, the number of swine being moved in a particular shipment, the shipment's point of origin, the shipment's destination, and the reason for the interstate movement. This information also provides APHIS officials with critical information concerning a shipment's history, which in turn enables APHIS to engage in swift, successful trace back investigations when infected swine are discovered.

Description of Respondents: State, Local, or Tribal Government; Business or other for-profit.

Number of Respondents: 100.

Frequency of Responses: Recordkeeping; Reporting: On occasion.

Total Burden Hours: 3,125.

Animal and Plant Health Inspection Service

Title: Importation of Horses, Ruminants, Swine, and Dogs; Inspection and Treatment for Screwworm.

OMB Control Number: 0579-0165.

Summary of Collection: Title 21 U.S.C. 117, Animal Industry Act of 2000, authorizes the Secretary to prevent, control, and eliminate domestic diseases such as brucellosis, as well as to take actions to prevent and to manage exotic diseases such as exotic Newcastle disease, screwworm, and other foreign diseases. The Animal and Plant Health Inspection Service (APHIS) of the United States Department of Agriculture is charged with disease prevention. This agency regulates the importation of animals and animal products into the U.S. to guard against the introduction of exotic animal diseases. The regulations under which APHIS conduct disease prevention activities are contained in Title 9, Chapter 1, Subchapter D, Parts 91 through 99. These regulations govern the importation of animals, birds and poultry, certain animal and poultry products, and animal germplasm. APHIS requires horses, ruminants, swine, and dogs imported into the United States from regions of the world where screwworm is known to exist to be inspected and, if necessary, treated for infestation with screwworm. Screwworm is a pest native to tropical areas of South America, the Indian subcontinent, Southeast Asia, tropical and sub-Saharan Africa, and the Arabian Peninsula that causes extensive damage to livestock and other warm-blooded animals.

Need and Use of the Information: Horses, ruminants, swine, and dogs entering the United States from regions where screwworm is known to exist must be accompanied by a certificate, signed by a full-time salaried veterinary official of the exporting country, stating that these animals have been thoroughly examined, that they have been treated with ivermectin, that any visible wounds have been treated with camaphos, and the animals appear to be free of screwworm. This is necessary to prevent the introduction of screwworm into the United States. If the information were collected less frequently or not collected at all, it would significantly cripple APHIS ability to ensure that horses, ruminants, swine, and dogs imported into the United States are not carrying screwworm. Such a development would make a screwworm incursion much more likely, with economically damaging effects on the U.S. equine, cattle, and swine industries.

Description of Respondents: State, Local or Tribal Government.

Number of Respondents: 40.

Frequency of Responses: Reporting: On occasion.

Total Burden Hours: 40.

Animal and Plant Health Inspection Service

Title: CSF—Importation of Pork and Pork Products and Live Swine from 4 Mexican States.

OMB Control Number: 0579-0230.

Summary of Collection: Title 21 U.S.C. 117, Animal Industry Act of 2000, authorizes the Secretary of Agriculture to take such measures as deemed proper to prevent the introduction or dissemination of any contagious or communicable disease of animals or live poultry from a foreign country into the United States or from one State to another. Disease prevention is the most effective method for maintaining a healthy animal population and enhancing the Animal and Plant Health Inspection Service (APHIS) ability to compete in the world market of animal and animal product trade. Veterinary Services, a division with APHIS is responsible for carry out this disease prevention mission. The agency regulates the importation of animals and animal products into the United States to guard against the introduction of exotic animal diseases such as classical swine fever.

Need and Use of the Information: APHIS will collect information using a certificate issued by a salaried veterinary officer of the Government of Mexico. The certificate must identify both the exporting region and the region of origin as a region designated as free of classical swine fever at the time the swine, pork and pork products were in the region. If the information were not collected it would significantly cripple APHIS ability to ensure that swine, pork, and pork products from certain States within Mexico pose a minimal risk of introducing classical swine fever and other exotic animal diseases into the United States.

Description of Respondents: Federal Government.

Number of Respondents: 5.

Frequency of Responses: Reporting: On occasion.

Total Burden Hours: 50.

Animal and Plant Health Inspection Service

Title: Animal Welfare; Transportation of Animals on International Carriers.

OMB Control Number: 0579-0247.

Summary of Collection: Under the Animal Welfare Act (AWA) (U.S.C. 2131, et seq.), the Secretary of Agriculture is authorized to promulgate standards and other requirements governing the humane handling, care, treatment, and transportation of certain animals by dealers, research facilities, exhibitors, and carriers and intermediate handlers. The Secretary has delegated the responsibility for administering the AWA to the Administrator of the Animal and Plant Health Inspection Service (APHIS). APHIS intends to begin applying the AWA regulations and standards for the human transportation of animals in commerce to all international carriers operating within the United States, its territories, possessions, or the District of Columbia. APHIS believes that animals being transported by international carriers should be afforded the same protection under the AWA as if domestic carriers were transporting them.

Need and Use of the Information: APHIS will collect information using APHIS forms 7001, United States Interstate and International Certificate of Health Examination for Small Animals and 7011, Application for Registration. The information collected from the forms is necessary for carriers and intermediate handlers to properly care for and deliver the animals to destination in a speedy and humane manner. The information is also used in documenting instances of violations for possible legal action and for locating facilities or person who are evading regulations under the law. If the information were not collected, full enforcement of the AWA would be limited or totally ineffective.

Description of Respondents: Individuals or households; Not-for-profit institutions.

Number of Respondents: 20.

Frequency of Responses: Recordkeeping; Reporting: On occasion.

Total Burden Hours: 175.

Ruth Brown,
Departmental Information Collection Clearance Officer.

[FR Doc. E7-20090 Filed 10-10-07; 8:45 am]

BILLING CODE 3410-34-P